NUCLEAR REGULATORY COMMISSION

[Docket No 50-255]

Nuclear Management Company, LLC; Notice of Consideration of Issuance of Amendment to Facility Operating License and Opportunity for a Hearing

The U.S. Nuclear Regulatory Commission (the Commission) is considering issuance of an amendment to Facility Operating License No. DPR-20, issued to Nuclear Management Company, LLC (the licensee), for operation of the Palisades Plant located in Covert Township, Van Buren County, Michigan.

The proposed amendment would add a paragraph to Section 2C of the operating license authorizing the licensee to update the final safety analysis report (FSAR) to reflect a change in the licensing basis for the handling of heavy loads using the main hoist of the fuel pool building crane (L-3 crane). The revised licensing basis is based upon the upgrading or re-evaluation of the lifting capacity of the L-3 crane main hoist, bridge, trolley, and the supporting structure from 100 tons to 110 tons, and the incorporation and crediting of single-failure-proof technology meeting the requirements of NUREG-0554, “Single-Failure-Proof Cranes for Nuclear Power Plants” and NUREG-0612, “Control of Heavy Loads at Nuclear Power Plants.” (NUREG-0612 requires analyses of postulated load drop accidents from spent fuel pool area cranes unless the handling system is designed to be single failure proof). The modified L-3 crane is the single-failure-proof crane designed by Ederer Incorporated in accordance with the NRC-approved report, EDR-1, “Generic Licensing Topical Report.” The upgrade, with its increased lifting capacity, will provide for use of a new, heavier dry fuel storage cask system which, due to dimensional changes, results in elimination of the impact limiting pad previously installed in the spent fuel pool to protect the pool structure from postulated transfer cask drop accidents during dry fuel storage operations. The 15-ton auxiliary hoist of the spent fuel pool crane is not upgraded to be single-failure-proof and continues to be bounded by existing cask drop accident analyses in Section 14.11 of the FSAR.

Before issuance of the proposed license amendment, the Commission will have made findings required by the Atomic Energy Act of 1954, as amended (the Act), and the Commission's regulations.

Within 60 days after the date of publication of this notice, the licensee may file a request for a hearing with respect to issuance of the amendment to the subject facility operating license and any person whose interest may be affected by this proceeding and who wishes to participate as a party in the proceeding must file a written request for a hearing and a petition for leave to intervene. Requests for a hearing and a petition for leave to intervene shall be filed in accordance with the Commission's “Rules of Practice for Domestic Licensing Proceedings” in 10 CFR part 2. Interested persons should consult a current copy of 10 CFR 2.309, which is available at the Commission's PDR, located at One White Flint North, Public File Area 01F21, 11555 Rockville Pike (first floor), Rockville, Maryland. Publicly available records will be accessible from the Agencywide Documents Access and Management System's (ADAMS) Public Electronic Reading Room on the Internet at the NRC Web site, http://www.nrc.gov/ reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner/requester in the proceeding, and how that interest may be affected by the results of the proceeding. The petition should specifically explain the reasons why intervention should be permitted with particular reference to the following general requirements: (1) The name, address and telephone number of the requester or petitioner; (2) the nature of the requester's/petitioner's right under the Act to be made a party to the proceeding; (3) the nature and extent of the requester's/petitioner's property, financial, or other interest in the proceeding; and (4) the possible effect of any decision or order which may be entered in the proceeding on the requester's/petitioner's interest. The petition must also identify the specific contentions which the petitioner/requester seeks to have litigated at the proceeding.

Each contention must consist of a specific statement of the issue of law or fact to be raised or controverted. In addition, the petitioner/requester shall provide a brief explanation of the bases for the contention and a concise statement of the alleged facts or expert opinion which support the contention and on which the petitioner intends to rely in proving the contention at the hearing. The petitioner must also provide references to those specific sources and documents of which the petitioner is aware and on which the petitioner intends to rely to establish those facts or expert opinion. The petition must include sufficient information to show that a genuine dispute exists with the applicant on a material issue of law or fact. Contentions shall be limited to matters within the scope of the amendment under consideration. The contention must be one which, if proven, would entitle the petitioner/requester to relief. A petitioner/requester who fails to file such a petition/request that satisfies these requirements with respect to at least one contention will not be permitted to participate as a party.

If two or more requesters/petitioners seek to co-sponsor a contention, the requesters/petitioners shall jointly designate a representative who shall have the authority to act for the requesters/petitioners with respect to that contention. If a requester/petitioner seeks to adopt the contention of another sponsoring requester/petitioner, the requester/petitioner who seeks to adopt the contention must either agree that the sponsoring requester/petitioner shall act as the representative with respect to that contention or jointly designate with the sponsoring requester/petitioner a representative who shall have the authority to act for the requesters/petitioners with respect to that contention.

Each contention should be given a separate numeric or alpha designation within one of the following groups: (1) Technical (primarily related to safety concerns); (2) environmental; or (3) miscellaneous.

Those permitted to intervene become parties to the proceeding, subject to any limitations in the order granting leave to intervene, and have the opportunity to participate fully in the conduct of the hearing.

A request for a hearing or a petition for leave to intervene must be filed by: (1) First class mail addressed to the Office of the Secretary of the Commission, U.S. Nuclear Regulatory Commission, Washington, DC 20555-0001, Attention: Rulemaking and Adjudications Staff; (2) courier, express mail, and expedited delivery services: Office of the Secretary, Sixteenth Floor, One White Flint North, 11555 Rockville Pike, Rockville, Maryland, 20852, Attention: Rulemaking and Adjudications Staff; (3) E-mail addressed to the Office of the Secretary, U.S. Nuclear Regulatory Commission, HEARINGDOCKET@NRC.GOV; or (4) facsimile transmission addressed to the Office of the Secretary, U.S. Nuclear Regulatory Commission, Washington, DC, Attention: Rulemakings and Adjudications Staff at (301) 415-1101, verification number is (301) 415-1966. A copy of the request for hearing and petition for leave to intervene should also be sent to the Office of the General Counsel, U.S. Nuclear Regulatory Commission, Washington, DC 20555-0001, and it is requested that copies be transmitted either by means of facsimile transmission to 301-415-3725 or by email to OGCMailCenter@nrc.gov. A copy of the request for hearing and petition for leave to intervene should also be sent to the attorney for the licensee, Jonathan Rogoff, Vice President Counsel and Secretary, Nuclear Management Company, LLC, 700 First Street, Hudson, WI 54016.

Nontimely requests and/or petitions and contentions will not be entertained absent a determination by the Commission or the presiding officer of the Atomic Safety and Licensing Board that the petition, request and/or the contentions should be granted based on a balancing of the factors specified in 10 CFR 2.309(a)(1)(i)-(viii).

For further details with respect to this action, see the application for amendment dated January 29, 2004, which is available for public inspection at the Commission's PDR, located at One White Flint North, File Public Area O1 F21, 11555 Rockville Pike (first floor), Rockville, Maryland. Publicly available records will be accessible from the Agencywide Documents Access and Management System's (ADAMS) Public Electronic Reading Room on the Internet at the NRC Web site, http://www.nrc.gov/reading-rm/adams.html. Persons who do not have access to ADAMS or who encounter problems in accessing the documents located in ADAMS, should contact the NRC PDR Reference staff by telephone at 1-800-397-4209, 301-415-4737, or by e-mail to pdr@nrc.gov.

Dated at Rockville, Maryland, this 24th day of February 2004.
For the Nuclear Regulatory Commission.
Darl S. Hood,
Senior Project Manager, Section I, Project Directorate III, Division of Licensing Project Management, Office of Nuclear Reactor Regulation.

[FR Doc. E4-433 Filed 2-27-04; 8:45 am]

BILLING CODE 7590-01-P